DEPARTMENT OF TRANSPORTATION

Coast Guard

[USCG-2001-10982]

Towing Safety Advisory Committee; vacancies

AGENCY: Coast Guard, DOT.

ACTION: Request for applications.

SUMMARY: The Coast Guard seeks applications for membership on the Towing Safety Advisory Committee (TSAC). TSAC provides advice and makes recommendations to the Department of Transportation on matters relating to shallow-draft inland and coastal waterway navigation and towing safety.

DATES: Application forms should reach us on or before May 17, 2002.

ADDRESSES: You may request an application form by writing to TSAC Application; Commandant (G-MSO-1), Room 1210; U.S. Coast Guard; 2100 Second Street SW.; Washington, DC 20593-0001; by calling 202-267-0229; or by faxing 202-267-4570. Send your original completed and signed application in written form to the above street address. This notice is available on the Internet at http://dms.dot.gov and the application form is available at http://www.uscg.mil/hq/g-m/advisory/index.htm

FOR FURTHER INFORMATION CONTACT: Mr. Gerald Miante; Assistant Executive Director of TSAC, telephone 202-267-0229, fax 202-267-4570, or e-mail gmiante@comdt.uscg.mil.

SUPPLEMENTARY INFORMATION: The Towing Safety Advisory Committee (TSAC) is a Federal advisory committee under 5 U.S.C. App. 2. It advises the Secretary of Transportation on matters relating to shallow-draft inland and coastal waterway navigation and towing safety. This advice also assists the Coast Guard in formulating the position of the United States in advance of meetings of the International Maritime Organization.

TSAC meets at least once a year at Coast Guard Headquarters, Washington, DC, or another location selected by the Coast Guard. It may also meet for extraordinary purposes. Its working groups may meet to consider specific problems as required. We will consider applications for five positions that expire or become vacant in September 2002 as follows: two members from the barge and towing industry, reflecting a geographical balance; one member from port districts, authorities, or terminal operators; one member from maritime labor; and one member from the general public. To be eligible, applicants should have experience in towing operations, marine transportation, occupational safety and health, environmental protection, or business operations associated with the towing or maritime industry. Each member serves for a term of 3 years. A few members may serve consecutive terms. All members serve at their own expense and receive no salary, reimbursement of travel expenses, or other compensation from the Federal Government.

In support of the policy of the Department of Transportation on gender and ethnic diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a).

Dated: November 14, 2001.
Joseph J. Angelo,
Director of Standards, Acting Assistant Commandant for Marine Safety and Environmental Protection.

[FR Doc. 01-29265 Filed 11-21-01; 8:45 am]

BILLING CODE 4910-15-U